DEPARTMENT OF COMMERCE

International Trade Administration

A-337-806

Individually Quick Frozen Red Raspberries from Chile: Final Results of Antidumping Duty Administrative Review

AGENCY: Import Administration, International Trade Administration, Department of Commerce.

SUMMARY: On August 4, 2008, the Department of Commerce published the preliminary results of the administrative review of the antidumping duty order on individually quick frozen red raspberries from Chile. The period of review is July 1, 2006, through June 30, 2007. This review covers sales of individually quick frozen red raspberries with respect to Sociedad Agroindustrial Valle Frio Ltda (“Valle Frio”). We provided interested parties with an opportunity to comment on the preliminary results of this review but received no comments. The final results do not differ from the preliminary results of this review.

EFFECTIVE DATE: December 8, 2008.

FOR FURTHER INFORMATION CONTACT: Yasmin Nair, Alexander Montoro, or Nancy Decker, AD/CVD Operations, Import Administration, International Trade Administration, U.S. Department of Commerce, 14th Street and Constitution Avenue, NW, Washington, DC 20230; telephone (202) 482-3813, (202) 482-0238, or (202) 482-0196, respectively.

SUPPLEMENTARY INFORMATION:

Background

In the preliminary results of this review (see Notice of Preliminary Results of Antidumping Duty Administrative Review: Certain Individually Quick Frozen Red Raspberries from Chile, 73 FR 45212 (August 4, 2008) (“Preliminary Results”)), the Department of Commerce (“the Department”) invited interested parties to comment on the Preliminary Results. On August 20, 2008, we extended the deadline for parties to submit comments on the Preliminary Results until October 14, 2008, and we extended the deadline for parties to submit rebuttal comments until October 20, 2008. See Memorandum from Yasmin Nair to File: “Fifth Administrative Review of Certain Individually Quick Frozen Red Raspberries from Chile, Briefing and Hearing Schedules,” dated August 20, 2008. No comments were received. In the Preliminary Results, we noted that we continued to have outstanding issues with Valle Frio's responses and that we needed to ask for further information. On August 28, 2008, we issued a supplemental questionnaire to Valle Frio. We received Valle Frio's response on September 11, 2008, which resolved the outstanding issues from the Preliminary Results related to this respondent. We note that the information submitted by Valle Frio did not result in any changes to the Preliminary Results.

Scope of the Order

The products covered by this order are imports of individually quick frozen (“IQF”) whole or broken red raspberries from Chile, with or without the addition of sugar or syrup, regardless of variety, grade, size or horticulture method (e.g., organic or not), the size of the container in which packed, or the method of packing. The scope of the order excludes fresh red raspberries and block frozen red raspberries (i.e., puree, straight pack, juice stock, and juice concentrate).

The merchandise subject to this order is currently classifiable under subheading 0811.20.2020 of the Harmonized Tariff Schedule of the United States (“HTSUS”). Although the HTSUS subheading is provided for convenience and customs purposes, the written description of the merchandise under the order is dispositive.

Period of Review

The period of review (“POR”) is July 1, 2006, through June 30, 2007.

Final Results of the Review

These final results remain unchanged from the Preliminary Results. Therefore, as a result of our review, we determine that the following percentage weighted-average margin exists for the period July 1, 2006, through June 30, 2007:

Exporter/manufacturer | Weighted-average margin percentage
Sociedad Agroindustrial Valle Frio Ltda./Agricola Framparque | 0.28 (de minimis)

Assessment Rates

The Department shall determine, and U.S. Customs and Border Protection (“CBP”) shall assess, antidumping duties on all appropriate entries. Pursuant to 19 CFR 351.212(b)(1), we have calculated importer-specific assessment rates. Because Valle Frio did not report the entered value for its U.S. sales, we have calculated importer-specific assessment rates for the merchandise in question by aggregating the dumping margins calculated for all U.S. sales to each importer and dividing this amount by the total quantity of those sales.

To determine whether the duty assessment rates were de minimis, in accordance with the requirement set forth in 19 CFR 351.106(c)(2), we calculated importer-specific ad valorem rates based on the estimated entered value. Where the assessment rate is above de minimis, we will instruct CBP to assess duties on all entries of subject merchandise by that importer. Pursuant to 19 CFR 351.106(c)(2), we will instruct CBP to liquidate without regard to antidumping duties any entries for which the assessment rate is de minimis (i.e., less than 0.50 percent).

The Department clarified its “automatic assessment” regulation on May 6, 2003. See Antidumping and Countervailing Duty Proceedings: Assessment of Antidumping Duties, 68 FR 23954 (May 6, 2003). This clarification will apply to entries of subject merchandise during the POR produced by the respondent for which it did not know its merchandise was destined for the United States. In such instances, we will instruct CBP to liquidate unreviewed entries at the all-others rate of 6.33 percent¹ if there is no rate for the intermediate company(ies) involved in the transaction. For a full discussion of this clarification, see Antidumping and Countervailing Duty Proceedings: Assessment of Antidumping Duties, 68 FR 23954 (May 6, 2003). The Department intends to issue appropriate assessment instructions to CBP 15 days after publication of the final results of review.

¹ The “all others” rate was established in Notice of Amended Final Determination of Sales at Less Than Fair Value: IQF Red Raspberries from Chile, 67 FR 40270, 40271 (June 12, 2002).

Cash Deposit Requirement

On July 20, 2007, the Department published a Federal Register notice that, inter alia, revoked this order, effective July 9, 2007. See IQF Red Raspberries from Chile: Final Results of Sunset Review and Revocation of Order, 72 FR 39793 (July 20, 2007). As a result, CBP is no longer suspending liquidation for entries of subject merchandise occurring on or after July 9, 2007. Therefore, there is no need to issue new cash deposit instructions pursuant to the final results of this administrative review.

Notification to Importers

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Notification Regarding APOs

This notice also serves as the only reminder to parties subject to the administrative protective order (“APO”) of their responsibility concerning the disposition of proprietary information disclosed under APO in accordance with 19 CFR 351.305(a)(3), which continues to govern business proprietary information in this segment of the proceeding. Timely written notification of return/destruction of APO material or conversion to judicial protective order is hereby requested. Failure to comply with the regulation and the terms of an APO is a sanctionable violation.

This administrative review and notice are published in accordance with sections 751(a)(1) and 777(i)(1) of the Act and 19 CFR 351.221(b)(5).

Dated: December 1, 2008.
David M. Spooner,
Assistant Secretary for Import Administration.

[FR Doc. E8-28974 Filed 12-5-08; 8:45 am]

BILLING CODE 3510-DS-S